DEPARTMENT OF DEFENSE

Contract Financing: Contractor's Request for Progress Payments

AGENCY: Department of Defense (DoD).

ACTION: Request for public comments.

SUMMARY: The Defense Acquisition Regulations (DAR) Council is currently reviewing DoD's use of Standard Form (SF) 1443, Contractor's Request for Progress Payments. As part of this review, the DAR Council would like to hear the views of interested parties on what improvements could be made to the form, including the instructions, for use on DoD contracts. Respondents are also encouraged to describe any problems they have experienced in using the form on DoD contracts.

DATES: Submit written comments to the address shown below on or before January 6, 2005.

ADDRESSES: Submit comments to: Office of the Director, Defense Procurement and Acquisition Policy, Policy Directorate, Attn: Mr. David Capitano, Room 3C838, 3000 Defense Pentagon, Washington, DC 20301-3000. Comments may also be submitted by fax at (703) 614-0719 (Attn: Mr. David Capitano), or by e-mail at david.capitano@osd.mil.

FOR FURTHER INFORMATION CONTACT: Mr. David Capitano, DPAP Policy Directorate, by telephone at (703) 847-7486, or by e-mail at david.capitano@osd.mil.

SUPPLEMENTARY INFORMATION: Based on the public comments received, the DAR Council will consider to what extent revisions (if any) to SF 1443 are needed. Any such revisions to the form will be published in the Federal Register as a proposed rule for public comment. Input may include, but is not limited to, the following areas:

1. Any revisions necessary to improve consistency between the form and the Progress Payments clause at 52.232-16 of the Federal Acquisition Regulation.

2. Simplification of the form and its instructions.

3. The impact any potential changes to the form may have on contractor and/or Government systems.

Michele P. Peterson,
Executive Editor, Defense Acquisition Regulations Council.

[FR Doc. 04-25810 Filed 11-19-04; 8:45 am]

BILLING CODE 5001-08-P